SOCIAL SECURITY ADMINISTRATION

Statement of Organization, Functions and Delegations of Authority

This statement amends Part S of the Statement of the Organization, Functions and Delegations of Authority, which covers the Social Security Administration (SSA). The notice establishes the Office of the Senior Executive Officer. This notice also removes the functions of the Press Office from the Deputy Commissioner of Communications and establishes the Press Office as an organization in the Office of the Commissioner. The new material and changes are as follows:

Section TE.00 The Office of Communications—(Mission)

Delete line

Performs SSA Press Office function to ensure a unified and consistent message to SSA's many publics.

Section SA.10 The Office of the Commissioner—(Organization)

Add

G. The Press Office

Add

H. The Office of the Senior Executive Officer

Section SA.20 The Office of the Commissioner—(Functions)

Add

G. The Press Office

1. Under the leadership of the Press Officer guides and coordinates all SSA press activities. It prepares and distributes news releases, fact sheets, and other materials for national distribution and for local release through SSA field offices.

2. Initiates and maintains contacts with members of the news media and responds to press inquiries and requests from newspapers, radio and television news departments; news and general print magazines, internet news providers, and other specialized press.

3. Advises Agency executives, Regional Communications Directors, Public Affairs Specialists, and other employees on matters related to news media.

4. Monitors press coverage of Social Security programs and employees, and distributes summaries of media coverage to Agency executives. When appropriate, the Press Office works to correct inaccuracies in coverage.

5. With the Office of Communications, works to craft messages and material for internal and external distribution.

Add

H. The Office of the Senior Executive Officer

1. Under the guidance of the Senior Executive Officer provides oversight and direction to the ongoing operation and activities of the Office of the Commissioner.

2. Plans, manages, and coordinates special projects/initiatives involving Agency administrative, policy, or program issues.

3. Serves as a focal point and represents the interests of the Commissioner to ensure that Agency components are aware of and held accountable for priorities, initiatives, and required actions. Acts as a catalyst and conduit for the exchange of information and direction between the Commissioner, functional Deputy Commissioners, and other executives.

4. Advises the Commissioner on issues concerning Agency operation, program integration, staffing/personnel matters, organizational effectiveness, and cooperation.

5. Directs administrative operations for the Office of the Commissioner including the budget, personnel management, and the development of policies and procedures necessary to secure a correctly and efficiently managed office.

6. Provides oversight and perspective on Agency-wide administrative and programmatic funding.

Dated: August 1, 2002.
Jo Anne B. Barnhart,
Commissioner.

[FR Doc. 02-20919 Filed 8-16-02; 8:45 am]

BILLING CODE 4191-02-P